United States Institute of Peace

Notice of Meeting

Agency: United States Institute of Peace.

Date/Time: Friday, April 20, 2018 (10:00 a.m.-12:15 p.m.).

Location: 2301 Constitution Avenue NW, Washington, DC 20037.

Status: Open Session—Portions may be closed pursuant to Subsection (c) of Section 552(b) of Title 5, United States Code, as provided in subsection 1706(h)(3) of the United States Institute of Peace Act, Public Law 98-525.

Agenda: April 20, 2018 Board Meeting: Chairman's Report; Vice Chairman's Report; President's Report; Approval of Minutes of the One Hundred and Sixty Fifth Meeting (January 19, 2018) of the Board of Directors; Reports from USIP Board Committees; Iraq Trip Report; and Central Asia: Multiple Connections report.

Contact: William B. Taylor, Executive Vice President: wtaylor@usip.org

Dated: April 5, 2018.
William B. Taylor,
Executive Vice President.

[FR Doc. 2018-07538 Filed 4-11-18; 8:45 am]

BILLING CODE 6820-AR-P